DEPARTMENT OF COMMERCE

National Oceanic and Atmospheric Administration

RIN 0648-XE481

Marine Mammals; File No. 19706

AGENCY: National Marine Fisheries Service (NMFS), National Oceanic and Atmospheric Administration (NOAA), Commerce.

ACTION: Notice; receipt of application.

SUMMARY: Notice is hereby given that the California State University, Bakersfield [Responsible Party: Antje Lauer, Ph.D.], 9001 Stockdale Highway, Bakersfield, CA 93311-1022, has applied in due form for a permit to conduct research on pinnipeds for scientific research, and receive, import, and export specimens from these species.

DATES: Written, telefaxed, or email comments must be received on or before April 21, 2016.

ADDRESSES: The application and related documents are available for review by selecting “Records Open for Public Comment” from the “Features” box on the Applications and Permits for Protected Species (APPS) home page, https://apps.nmfs.noaa.gov, and then selecting File No. 19706 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 19706 in the subject line of the email comment.

Those individuals requesting a public hearing should submit a written request to the Chief, Permits and Conservation Division at the address listed above. The request should set forth the specific reasons why a hearing on this application would be appropriate.

FOR FURTHER INFORMATION CONTACT: Rosa L. González or Jennifer Skidmore; phone: (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant proposes to receive, import, and export blood sera from up to 500 California sea lions (Zalophus californianus), 25 threatened Guadalupe fur seals (Arctocephalus townsendi), and 25 northern fur seals (Callorhinus ursinus) in rehabilitation annually to perform immunodiffusion assays. In addition, the applicant proposes to perform the Spherusol skin test on up to 500 California sea lions in rehabilitation annually. The skin test includes administering a drug intradermally and subsequent observation, photograph/video of swelling/induration after a period of time (i.e., hours). The objective is to research Coccidioidomycosis (Valley fever) on stranded marine mammals along California's coast. The goal is to successfully detect the animal's exposure to Coccidioides spp. and compare the sensitivity of the tests to further health studies on the above-named marine mammal species. A permit is requested for a 3-year period.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 16, 2016.
Julia Harrison,
Chief, Permits and Conservation Division, Office of Protected Resources, National Marine Fisheries Service.

[FR Doc. 2016-06343 Filed 3-21-16; 8:45 am]

BILLING CODE 3510-22-P